ENVIRONMENTAL PROTECTION AGENCY

[EPA-HQ-OECA-2012-0686; FRL—9534-1]

Information Collection Request Submitted to OMB for Review and Approval; Comment Request; NESHAP for Organic Liquids Distribution (Non-Gasoline) Facilities (Renewal)

AGENCY: Environmental Protection Agency (EPA).

ACTION: Notice.

SUMMARY: The Environmental Protection Agency has submitted an information collection request (ICR), “NESHAP for Organic Liquids Distribution (Non-Gasoline) Facilities (40 CFR Part 63, Subpart EEEE) (Renewal)” (EPA ICR No. 1963.05, OMB Control No. 2060-0539) to the Office of Management and Budget (OMB) for review and approval in accordance with the Paperwork Reduction Act (44 U.S.C. 3501 et seq.). This is a proposed extension of the ICR, which is currently approved through September 30, 2013. Public comments were previously requested via the Federal Register (77 FR 63813) on October 17, 2012, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 12, 2013.

ADDRESSES: Submit your comments, referencing Docket ID Number EPA-HQ-OECA-2012-0686, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, EPA West, Room 3334, 1301 Constitution Ave., NW., Washington, DC. The telephone number for the Docket Center is 202-566-1744. For additional information about EPA's public docket, visit http://www.epa.gov/dockets.

Abstract: The affected entities are subject to the General Provisions of the NESHAP at 40 CFR part 63, subpart A, and any changes, or additions to the Provisions specified at 40 CFR part 63, subpart EEEE.

Owners or operators of the affected facilities must submit an initial notification report, performance tests, and periodic reports and results. Owners or operators are also required to maintain records of the occurrence and duration of any startup, shutdown, or malfunction in the operation of an affected facility, or any period during which the monitoring system is inoperative. Reports are required semiannually at a minimum.

Form Numbers: None.

Respondents/affected entities: Organic liquids distribution facilities.

Respondent's obligation to respond: Mandatory (40 CFR part 63, subpart EEEE)

Estimated number of respondents: 381 (total).

Frequency of response: Initially, occasionally, semiannually, and annually.

Total estimated burden: 114,667 hours (per year). “Burden” is defined at 5 CFR 1320.3(b).

Total estimated cost: $19,770,006 (per year), includes $8,559,164 annualized capital or operation & maintenance costs.

Changes in the Estimates: There is an adjustment increase in the respondent labor hours in this ICR compared to the previous ICR. This is due to an increase in the estimated number of hours to prepare semiannual reports. The previous ICR estimated 40 technical hours per occurrence for this burden item. Based on consultation comments received during development of this ICR, we revised the estimate to 80 hours per semiannual report to more accurately reflect industry burden. In addition, there is an increase in respondent labor costs from the most recently approved ICR due to adjustments in labor rates. This ICR uses updated labor rates to calculate all burden costs.

John Moses,
Director, Collection Strategies Division.

[FR Doc. 2013-16636 Filed 7-10-13; 8:45 am]

BILLING CODE 6560-50-P